DEPARTMENT OF ENERGY

Federal Energy Regulatory Commission

Notice of Conference

| Docket Nos.
Public Service Company of Colorado | ER15-237-004
| ER15-326-001
| ER16-178-000
| ER16-180-000
Black Hills/Colorado Electric Utility Company LP | ER15-295-003
| ER15-348-003
| ER16-212-000
| ER16-217-000

On Tuesday, December 15, 2015, Commission staff will meet with Public Service Company of Colorado (PSCo) in Washington, DC. The purpose of the meeting is to discuss matters related to the filings submitted by PSCo and Black Hills/Colorado Electric Utility Company LP in the above-captioned proceedings, including matters related to: (1) The cost-based rate cap for energy provided pursuant to the joint dispatch agreement; (2) Standards of Conduct issues; and (3) the proposed joint dispatch web portal. The meeting will begin at 10 a.m. at the Federal Energy Regulatory Commission headquarters building located at 888 First Street NE., Washington, DC, 20426. All interested parties are invited to observe the meeting in person or to listen to the meeting by telephone.¹ For further information please contact Dennis Reardon at 202-502-6719.

¹ Attendees may register in advance at the following Web page: https://www.ferc.gov/whats-new/registration/12-15-15-form.asp. Advance registration is not required, but is encouraged.

Commission conferences are accessible under section 508 of the Rehabilitation Act of 1973. For accessibility accommodations, please send an email to accessibility@ferc.gov or call toll free 1 (866) 208-3372 (voice) or (202) 208-1659 (TTY), or send a FAX to (202) 208-2106 with the required accommodations.

Dated: December 9, 2015.
Nathaniel J. Davis, Sr.,
Deputy Secretary.

[FR Doc. 2015-31474 Filed 12-14-15; 8:45 am]

BILLING CODE 6717-01-P